DEPARTMENT OF EDUCATION

Submission for OMB Review; Comment Request

AGENCY: Department of Education.

ACTION: Correction notice.

SUMMARY: On November 20, 2009, the Department of Education published a comment period notice in the Federal Register (Page 60246, Column 3) seeking public comment for an information collection entitled, “Annual Performance Report for the State Grant for Assistive Technology Program”. The number of responses are corrected to 190,456 and the burden hours are corrected to 26,796. The Acting Director, Information Collection Clearance Division, Regulatory Information Management Services, Office of Management, hereby issues a correction notice as required by the Paperwork Reduction Act of 1995.

Dated: November 24, 2009.
James Hyler,
Acting Director, Information Collection Clearance Division, Regulatory Information Management Services, Office of Management.

[FR Doc. E9-28574 Filed 11-27-09; 8:45 am]

BILLING CODE P